DEPARTMENT OF JUSTICE

Antitrust Division

Notice Pursuant to the National Cooperative Research and Production Act of 1993—BioNanomatrix-Complete Genomics NIST ATP Joint Venture

Notice is hereby given that, on January 10, 2008 pursuant to section 6(a) of the National Cooperative Research and Production Act of 1993, 15 U.S.C. 4301 et seq. (“the Act”), BioNanomatrix-Complete Genomics NIST ATP Joint Venture has filed written notifications simultaneously with the Attorney General and the Federal Trade Commission disclosing (1) the identities of the partes and (2) the nature and objectives of the venture. The notifications were filed for the purpose of invoking the Act's provisions limiting the recovery of antitrust plaintiffs to actual damages under specified circumstances.

Pursuant to section 6(b) of the Act, the identities of the parties to the venture are: BioNanomatrix, Inc., Philadelphia, PA; and Complete Genomics, Inc., Mountain View, CA. The general area of planned activity for BioNanomatrix-Complete Genomics NIST ATP Joint Venture is to research the feasibility of sequencing the entire human genome in less than 8 hours for less than $100 using breakthrough technology called Linear Imaging Sequence Analysis (LISA) which requires the use of a novel sequence interrogation chemistry developed from CGI's ligation sequencing chemistry combined with a novel nanofluidic biochip adapted from BNM's nanoanalyzer technology.

The activities of this venture project will be partially funded by an award from the Advanced Technology Program, National Institute of Standards and Technology, U.S. Department of Commerce under Award Number 70NANB7H7027.

Patricia A. Brink,
Deputy Director of Operations, Antitrust Division.

[FR Doc. 08-755 Filed 2-19-08; 8:45 am]

BILLING CODE 4140-11-M